NATIONAL FOUNDATION ON THE ARTS AND THE HUMANITIES

National Endowment for the Arts, Special Projects Advisory Panel

Pursuant to Section 10(a)(2) of the Federal Advisory Committee Act (Public Law 92-463), as amended, notice is hereby given that a meeting of the Special Projects Advisory Panel (Research Section), to the National Council on the Arts will be held on June 12, 2000. The committee will meet from 1:30 a.m. to 5 p.m. in Room 716 at the Nancy Hanks Center, 1100 Pennsylvania Avenue, NW, Washington, DC 20506, to assist in developing parameters for a national study of jazz artists in four cities.

The agenda will tentatively include:

Discussion of the revised proposal and additional methodologies

Context—landscape for jazz artists in 4 cities

Definitions for the purpose of this study: What is jazz? What is a jazz artist?

Criteria for determining what is a jazz artist Response Driven Sampling (RDS) for interviews

Appropriateness of incentives for RDS

Kinds of analysis—context, data, comparisons, recommendations

This meeting will be open to the public on a space available basis. Any person may observe meetings, or portions thereof, of advisory panels which are open to the public, and, if time allows, may be permitted to participate in the panel's discussions at the discretion of the panel chairman and with the approval of the full-time Federal employee in attendance.

If you need special accommodations due to a disability, please contact the Office of AccessAbility, National Endowment for the Arts, 1100 Pennsylvania Avenue, NW, Washington, DC 20506, 202/682-5532, TDY-TDD 202/682-5496, at least seven (7) days prior to the meeting.

Further information with reference to this meeting can be obtained from Mr. Tom Bradshaw, Office of Policy Research & Analysis, National Endowment for the Arts, Washington, DC 20506, or call 202/682-5527.

Dated: May 26, 2000.
Kathy Plowitz-Worden,
Panel Coordinator, Panel Operations, National Endowment for the Arts.

[FR Doc. 00-13693 Filed 6-1-00; 8:45 am]

BILLING CODE 7537-01-M